DEPARTMENT OF ENERGY

Office of Energy Efficiency and Renewable Energy

Proposed Agency Information Collection

AGENCY: Office of Energy Efficiency and Renewable Energy, Office of Vehicle Technologies, U.S. Department of Energy (DOE).

ACTION: Submission for Office of Management and Budget (OMB) review; comment request.

SUMMARY: The Department of Energy has submitted to the OMB for clearance, a proposal to extend for three years a collection of information pursuant to the Paperwork Reduction Act of 1995. The approved collection is being used for two Clean Cities programmatic efforts. The first is related to a scorecard that assists DOE's Clean Cities coalitions and stakeholders in assessing the level of readiness of their communities for plug-in electric vehicles (PEV). The second effort is intended to develop information that enables DOE to measure the impact and progress of DOE's National Clean Fleets Partnership (Partnership). DOE is not proposing to expand the scope of these information collection efforts.

DATES: Comments regarding this proposed information collection must be received on or before January 11, 2016. If you anticipate difficulty in submitting comments within that period, contact the person listed below as soon as possible.

ADDRESSES: Written comments should be sent to:

Desk Officer for the Department of Energy, Office of Information and Regulatory Affairs, Office of Management and Budget, New Executive Office Building, Room 10102, 735 17th Street NW., Washington, DC 20503. And to Mr. Dennis Smith, Office of Energy Efficiency and Renewable Energy (EE-3V), U.S. Department of Energy, 1000 Independence Avenue SW., Washington, DC 20585-0121, or by fax at 202-586-1600, or by email at Dennis.Smith@ee.doe.gov.

FOR FURTHER INFORMATION CONTACT: Mr. Dennis Smith at the address listed above in ADDRESSES.

SUPPLEMENTARY INFORMATION: The approved collection is being used for two Clean Cities programmatic efforts. The first is related to a scorecard that assists DOE's Clean Cities coalitions and stakeholders in assessing the level of readiness of their communities for plug-in electric vehicles (PEV). The second effort is intended to develop information that enables DOE to measure the impact and progress of DOE's National Clean Fleets Partnership (Partnership). DOE is not proposing to expand the scope of these information collection efforts.

This information collection request contains: (1) OMB No.: 1910-5171; (2) Information Collection Request Title: Clean Cities Vehicle Programs; (3) Type of Review: renewal; (4) Purpose: DOE's Clean Cities initiative has developed two voluntary mechanisms by which communities and certain fleets can get a better understanding of their readiness to deploy alternative fuel vehicles and their progress in doing so. The voluntary PEV Scorecard is intended to assist its coalitions and stakeholders in assessing the level of readiness of their communities for plug-in electric vehicles. The principal objective of the scorecard is to provide respondents with an objective assessment and estimate of their respective community's readiness for PEV deployment as well as understand the respective community's commitment to deploying these vehicles successfully. DOE intends the scorecard to be completed by a city/county/regional sustainability or energy coordinator. As the intended respondent may not be aware of every aspect of local or regional PEV readiness, coordination among local stakeholders to gather appropriate information may be necessary.

DOE expects a total respondent population of approximately 1,250 respondents. Selecting the multiple choice answers in completing a scorecard questionnaire is expected to take under 30 minutes, although additional time of no more than 20 hours may be needed to assemble information necessary to be able to answer the questions, leading to a total burden of approximately 25,625 hours. Assembling information to update questionnaire answers in the future on a voluntary basis would be expected to take less time, on the order of 10 hours, as much of any necessary time and effort needed to research information would have been completed previously.

For the Clean Fleets Partnership information collection, the Partnership is targeted at large, private-sector fleets that own or have contractual control over at least 50 percent of their vehicles and have vehicles operating in multiple States. DOE expects approximately 50 fleets to participate in the Partnership and, as a result, DOE expects a total respondent population of approximately 50 respondents. Providing initial baseline information for each participating fleet, which occurs only once, is expected to take 60 minutes. Follow-up questions and clarifications for the purpose of ensuring accurate analyses are expected to take up to 90 minutes. The total burden is expected to be 125 hours.

The combined burden for the two information collections is 25,750 hours.

(5) Type of Respondents: Public; (6) Annual Estimated Number of Respondents for both information collections: 1,300; (7) Annual Estimated Number of Total Responses: 1,300; (7) Annual Estimated Number of Burden Hours: 25,750 (25,625 for PEV Scorecard, and 125 for Clean Fleets Partnership); and (8) Annual Estimated Reporting and Recordkeeping Cost Burden: There is no cost associated with reporting and recordkeeping.

Statutory Authority: 42 U.S.C. 13233; 42 U.S.C. 13252 (a)-(b); 42 U.S.C. 13255.

Issued in Washington, DC on: December 4, 2015.
David Howell,
Acting Director, Vehicle Technologies Office, Energy Efficiency and Renewable Energy.

[FR Doc. 2015-31257 Filed 12-10-15; 8:45 am]

BILLING CODE 6450-01-P